DEPARTMENT OF HEALTH AND HUMAN SERVICES

21 CFR Part 6

42 CFR Part 1, 404

45 CFR Part 6

[Docket No. HHS-OS-2020-0012]

RIN 0991-AC24

Securing Updated and Necessary Statutory Evaluations Timely

AGENCY: Department of Health and Human Services (HHS).

ACTION: Proposed rule; public hearing.

SUMMARY: This document announces a public hearing to receive information and views on the Notice of Proposed Rulemaking (NPRM) entitled “Securing Updated and Necessary Statutory Evaluations Timely.”

DATES: November 23, 2020, 10 a.m.-2 p.m. Eastern Time (ET). The ending time of this public hearing may change based on public interest. The most up-to-date information about the public hearing will be available on the HHS.gov website at https://www.hhs.gov/regulations/comment-on-open-rules/index.html.

ADDRESSES: This meeting will be held virtually by WebEx and teleconference.

The public can join the meeting by:

(Audio Portion) Calling the conference phone number +1-415-527-5035 and providing the following information:

Meeting Number (access code): 199 934 0311

Meeting Password: jB4kisMJt47

FOR FURTHER INFORMATION CONTACT: James Lawrence, 200 Independence Avenue, SW Room 713F, Washington, DC 20201; or by email at reviewnprm@hhs.gov; or by telephone at 1-877-696-6775.

SUPPLEMENTARY INFORMATION: To further comply with the Regulatory Flexibility Act and certain Executive Orders, as well as to ensure its regulations have appropriate impacts, the U.S. Department of Health and Human Services (HHS) issued a notice of proposed rulemaking (NPRM) to set expiration dates for its regulations (subject to certain exceptions), unless the Department periodically assesses the regulations to determine if they are subject to the RFA, and if they are, performs a review that satisfies the criteria in the RFA.

The NPRM was published in the Federal Register on November 4, 2020. See 85 FR 70096, https://www.govinfo.gov/content/pkg/FR-2020-11-04/pdf/2020-23888.pdf. The public comment period closes on December 4, 2020, except that portions of the proposed rule amending 42 CFR parts 400-429 and parts 475-499 are due January 4, 2021.

The public hearing will be held during the public comment period. This hearing is to provide an open forum for the presentation of information and views concerning all aspects of the NPRM by interested persons.

In preparing a final regulation, the Secretary will consider the administrative record of this hearing along with all other written comments received during the comment period specified in the NPRM. Individuals or representatives of interested organizations are invited to participate in the public hearing in accordance with the schedule and procedures set forth below. Persons who wish to participate are requested to file a notice of participation with HHS on or before November 19, 2020. The notice should be emailed to reviewnprm@hhs.gov or mailed to James Lawrence, 200 Independence Avenue SW, Room 713F, Washington, DC 20201. To ensure timely handling, any outer envelope or the subject line of an email should be clearly marked “Review NPRM Hearing.” The notice of participation should contain the interested person's name, address, email address, telephone number, any business or organizational affiliation of the person desiring to make a presentation, a brief summary of the presentation, and the approximate time requested for the presentation. Groups that have similar interests should consolidate their comments as part of one presentation. Time available for the hearing will be allocated among the persons who properly file notices of participation. If time permits, interested parties attending the hearing who did not submit notices of participation in advance will be allowed to make an oral presentation at the conclusion of the hearing.

Persons who find that there is insufficient time to submit the required information in writing may give oral notice of participation by calling James Lawrence at 1-877-696-6775, no later than November 20, 2020.

After reviewing the notices of participation and accompanying information, HHS will schedule each appearance and notify each participant by mail, email, or telephone of the time allotted to the person(s) and the approximate time the person's oral presentation is scheduled to begin.

A summary of comments and a recording of the hearing will be made available for public inspection on the HHS.gov website, https://www.hhs.gov/, as soon as they have been prepared.

Dated: November 10, 2020.
Alex M. Azar II,
Secretary, Department of Health and Human Services.

[FR Doc. 2020-25246 Filed 11-12-20; 11:15 am]

BILLING CODE 4150-26-P